DEPARTMENT OF DEFENSE

Office of the Secretary

[Docket ID: DoD-2024-OS-0023]

Submission for OMB Review; Comment Request

AGENCY: The Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by January 29, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574 or whs.mc-alex.esd.mbx.dd-dod-information-collections@mail.mil.

SUPPLEMENTARY INFORMATION:

Title; Associated Form; and OMB Number: User Testing of the Financial Readiness Website; OMB Control Number 0704-0657.

Type of Request: Revision.

FINRED User Testing Usability Screener

Number of Respondents: 142.

Responses per Respondent: 1.

Annual Responses: 142.

Average Burden per Response: 15 minutes.

Annual Burden Hours: 36.

FINRED User Testing Usability Guide

Number of Respondents: 18.

Responses per Respondent: 1.

Annual Responses: 18.

Average Burden per Response: 90 minutes.

Annual Burden Hours: 27.

FINRED Card Sort/Navigation Screener

Number of Respondents: 200.

Responses per Respondent: 1.

Annual Responses: 200.

Average Burden per Response: 7.5 minutes.

Annual Burden Hours: 25.

FINRED Card Sort Study

Number of Respondents: 120.

Responses per Respondent: 1.

Annual Responses: 120.

Average Burden per Response: 15 minutes.

Annual Burden Hours: 30.

Total

Annual Burden Hours: 118.

Number of Respondents: 480.

Annual Responses: 480.

Needs and Uses: The DoD Office of Financial Readiness Information (FINRED) is sponsoring a website usability study to collect opinions, ideas, and concerns from members of the military community on their level of satisfaction with the FINRED website content, layout, and navigation of financial resources. This study will be used only for research purposes and the results and recommendations will be anonymous when shared with government officials. The feedback and insights will be used to drive future improvements to the FINRED website. The purpose of the FINRED Card Sorting User Testing of the Financial Readiness website (User Testing/Usability Study) is to provide key metrics to the Office of Financial Readiness to support DoD Instruction (DoDI) 1322.34 “Financial Readiness of Service Members”. The User Testing/Card Sorting Usability Study will provide results from the collection of opinions, ideas, and concerns from members of the military community on their level of satisfaction with the taxonomy and navigation of the FINRED website. Results will also provide a new taxonomy of the FINRED website, that will allow the Office of Financial Readiness to adjust the layout and organization of the website to meet the needs and layout of what the users intend to find when on the website.

Affected Public: Individuals or households.

Frequency: On occasion.

Respondent's Obligation: Voluntary.

DOD Clearance Officer: Mr. Reginald Lucas.

Dated: December 18, 2024.
Stephanie J. Bost,
Alternate OSD Federal Register Liaison Officer, Department of Defense.

[FR Doc. 2024-30886 Filed 12-27-24; 8:45 am]

BILLING CODE 6001-FR-P